SECURITIES AND EXCHANGE COMMISSION

[File No. 1-14334]

Issuer Delisting; Notice of Application To Withdraw From Listing and Registration (AT Plastics, Inc., Common Stock, no par value) From the American Stock Exchange LLC

April 29, 2002.

AT Plastics, Inc., an Ontario corporation (“Issuer”), has filed an application with the Securities and Exchange Commission (“Commission”), pursuant to section 12(d) of the Securities Exchange Act of 1934 (“Act”) ¹ and Rule 12d2-2(d) thereunder,² to withdraw its Common Stock, no par value (“Security”), from listing and registration on the American Stock Exchange LLC (“Amex” or “Exchange”).

¹ 15 U.S.C. 78l(d).

² 17 CFR 240.12d2-2(d).

The Issuer stated in its application that it has met the requirements of Amex Rule 18 by complying with all applicable laws in effect in the Province of Ontario, in which it is incorporated, and with the Amex's rules governing an issuer's voluntary withdrawal of a security from listing and registration. The Issuer's application relates solely to the Security's withdrawal from listing on the Amex and from registration under section 12(b) of the Act ³ and shall not affect its obligation to be registered under section 12(g) of the Act.⁴

³ 15 U.S.C. 78l(b).

⁴ 15 U.S.C. 78l(g).

The Board of Trustees (“Board”) of the Issuer approved a resolution on March 8, 2002 to withdraw the Issuer's Security from listing on the Amex. In making the decision to withdraw its Security from the Amex, the Board noted that: (i) The Security is primarily traded on the Toronto Stock Exchange; and (ii) the volume of trading is very low and very few U.S. citizens hold the Security. The Issuer believes that trading of the Security on the Toronto Stock Exchange provides adequate market liquidity for holders of the Security and delisting of the Security on the Amex will not be adverse to its U.S. holders. The Issuer also noted the substantial cost savings of delisting its Security from the Amex.

Any interested person may, on or before May 20, 2002, submit by letter to the Secretary of the Securities and Exchange Commission, 450 Fifth Street, NW., Washington, DC 20549-0609, facts bearing upon whether the application has been made in accordance with the rules of the Amex and what terms, if any, should be imposed by the Commission for the protection of investors. The Commission, based on the information submitted to it, will issue an order granting the application after the date mentioned above, unless the Commission determines to order a hearing on the matter.

For the Commission, by the Division of Market Regulation, pursuant to delegated authority.⁵
⁵ 17 CFR 200.30-3(a)(1).
Jonathan G. Katz,
Secretary.

[FR Doc. 02-10975 Filed 5-2-02; 8:45 am]

BILLING CODE 8010-01-U